DEPARTMENT OF EDUCATION

Extension of the Application Deadline Date; Applications for New Awards; Personnel Development To Improve Services and Results for Children With Disabilities—Preparation of Related Services Personnel Serving Children With Disabilities Who Have High-Intensity Needs

AGENCY: Office of Special Education and Rehabilitative Services, Department of Education.

ACTION: Notice.

SUMMARY: On November 16, 2023, the Department of Education (Department) published in the Federal Register a notice inviting applications (NIA) for the fiscal year (FY) 2024 Personnel Development to Improve Services and Results for Children with Disabilities—Preparation of Related Services Personnel Serving Children with Disabilities who have High-Intensity Needs competition, Assistance Listing Number 84.325R. The NIA established a deadline date of January 16, 2024, for the transmittal of applications. This notice extends the deadline date for transmittal of applications for all eligible applicants until January 31, 2024, and extends the date of intergovernmental review until March 30, 2024.

DATES:

Deadline for Transmittal of Applications: January 31, 2024.

Deadline for Intergovernmental Review: March 30, 2024.

FOR FURTHER INFORMATION CONTACT: Louise Tripoli, U.S. Department of Education, 400 Maryland Avenue SW, Room 4A10, Washington, DC 20202. Telephone: (202) 245-7554. Email: Louise.Tripoli@ed.gov.

If you are deaf, hard of hearing, or have a speech disability and wish to access telecommunications relay services, please dial 7-1-1.

SUPPLEMENTARY INFORMATION: On November 16, 2023, we published the NIA for the FY 2024 Personnel Development to Improve Services and Results for Children with Disabilities—Preparation of Related Services Personnel Serving Children with Disabilities who have High-Intensity Needs competition in the Federal Register (88 FR 78731). The NIA established a deadline of January 16, 2024, for eligible applicants to submit applications. We are extending the deadline for transmittal of applications for all eligible applicants under this competition until January 31, 2024. We are extending the deadline in order to allow all applicants more time to prepare and submit their applications. Applicants that have already timely submitted applications under this competition may resubmit applications but are not required to do so. If a new application is not submitted, the Department will use the application that was submitted by the original deadline. If a new application is submitted, the Department will consider the application that is last submitted and timely received.

Note: All information in the NIA, including eligibility criteria, remains the same, except for the deadline for the transmittal of applications and the deadline for intergovernmental review. The NIA is available at https://www.federalregister.gov/documents/2023/11/16/2023-25307/applications-for-new-awards-personnel-development-to-improve-services-and-results-for-children-with.

Information about Personnel Development to Improve Services and Results for Children with Disabilities—Preparation of Related Services Personnel Serving Children with Disabilities who have High-Intensity Needs is available on the Department's website at https://www2.ed.gov/fund/grant/apply/osep/new-osep-grants.html.

Program Authority: 20 U.S.C. 1462 and 1481.

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2023-27307 Filed 12-12-23; 8:45 am]

BILLING CODE 4000-01-P